DEPARTMENT OF HOMELAND SECURITY

Coast Guard

[Docket No. USCG-2010-0015]

Certificate of Alternative Compliance for the Tugboat MR JOE

AGENCY: Coast Guard, DHS.

ACTION: Notice.

SUMMARY: The Coast Guard announces that a Certificate of Alternative Compliance was issued for the tugboat MR JOE as required by 33 U.S.C. 1605(c) and 33 CFR 81.18.

DATES: The Certificate of Alternative Compliance was issued on December 16, 2009.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2010-0015 in the ”Keyword” box, pressing Enter, and then clicking ”Search.”

FOR FURTHER INFORMATION CONTACT: If you have questions on this notice, call CWO2 David Mauldin, District Eight, Prevention Branch, U.S. Coast Guard, telephone 504-671-2153. If you have questions on viewing or submitting material to the docket, call Renee V. Wright, Program Manager, Docket Operations, telephone 202-366-9826.

SUPPLEMENTARY INFORMATION:

Background and Purpose

A Certificate of Alternative Compliance, as allowed under Title 33, Code of Federal Regulation, Parts 81 and 89, has been issued for the tugboat MR JOE, O.N. 1218724. Full compliance with 72 COLREGS and Inland Rules Act would hinder the vessel's ability to maneuver within close proximity of other vessels. Placing the lights at the location required by Annex I, paragraph 3(b) of 72 COLREGS and Annex I, paragraph 84.05(b) of the Inland Rules Act would cause the lights to be in a location which will be highly susceptible to damage. Locating the sidelights 9′-3″ outboard from the centerline of the vessel on the pilot house will provide a sheltered location for the lights and allow maneuvering within close proximity to other vessels.

The Certificate of Alternative Compliance allows for the placement of the sidelights to deviate from requirements set forth in Annex I, paragraph 3(b) of 72 COLREGS and Annex I, paragraph 84.05(b) of the Inland Rules Act.

This notice is issued under authority of 33 U.S.C. 1605(c), and 33 CFR 81.18.

Dated: January 21, 2010.
J. W. Johnson,
Commander, U.S. Coast Guard, Chief, Inspections and Investigations Branch, By Direction of the Commander, Eighth Coast Guard District.

[FR Doc. 2010-5381 Filed 3-11-10; 8:45 am]

BILLING CODE 9110-04-P